DEPARTMENT OF THE INTERIOR

Bureau of Indian Affairs

Land Acquisitions; Oneida Indian Nation of New York

AGENCY: Bureau of Indian Affairs, Interior.

ACTION: Notice of Final Agency Determination to Take Land into Trust under 25 U.S.C. 465 and 25 CFR part 151.

SUMMARY: The Deputy Secretary and the Associate Deputy Secretary made a final agency determination to acquire approximately 13,003.89 acres in trust for the Oneida Indian Nation of New York. This notice is published in the exercise of authority delegated by the Secretary of the Interior to the Deputy Secretary by 209 Departmental Manual 2.1 and delegated by the Deputy Secretary to the Associate Deputy Secretary under authority of Section 2 of Reorganization Plan No. 3 of 1950 (64 Stat. 2162), as amended.

FOR FURTHER INFORMATION CONTACT: James T. Kardatzke, PhD, Branch Manager, Natural Resources, Bureau of Indian Affairs, Eastern Regional Office, 545 Marriott Drive, Suite 700, Nashville, TN 37214; Telephone (615) 564-6830.

SUPPLEMENTARY INFORMATION: This notice is published to comply with the requirement of 25 CFR 151.12(b) that notice be given to the public of the decision by the authorized representative of the Secretary of the Interior to acquire land in trust at least 30 days prior to signatory acceptance of the land into trust. The purpose of the 30-day waiting period is to afford interested parties the opportunity to seek judicial review of final administrative decisions to take land into trust for Indian tribes and individuals before transfer of title to the property occurs. On May 19, 2008, the Deputy Secretary and the Associate Deputy Secretary issued a Record of Decision documenting the Department's final determination to accept approximately 13,003.89 acres into trust for the Oneida Indian Nation of New York under authority of Section 5 of the Indian Reorganization Act of 1934, 25 U.S.C. 465. Title to the 13,003.89 acres, described below by the parcel identification numbers assigned by the Oneida Indian Nation of New York and by the tax lot identification numbers assigned by the counties in which the lands are located, shall be acquired in the name of the United States in trust for the Oneida Indian Nation of New York no sooner than 30 days after the date of this notice.

Oneida County, NY
Oneida Nation Parcel No. | Oneida County Tax Lot No.
8 | 298.000-1-30.3
9 | 298.000-1-38
10 | 298.000-1-39
11 | 310.000-1-15.2
12 | 310.000-1-27
13 | 323.000-1-1.3
16 | 323.000-1-2
17 | 323.000-1-1.1
19 | 299.000-1-58.1
20 | 322.000-2-19
22 | 322.000-2-28
23 | 284.000-1-30
24 | 285.000-1-32
25 | 284.000-1-29
26 | 285.000-1-2
27 | 285.000-1-5
28 | 285.000-1-8.1
29 | 284.000-1-27
30 | 284.000-1-28
31 | 284.000-1-37
32 | 297.000-1-3.1
34 | 310.000-2-1
35 | 285.000-1-6
36 | 284.000-1-18
37 | 270.000-1-34
38 | 269.000-2-47.1
39 | 310.000-2-6.2
40 | 310.000-2-9
41 | 299.000-1-1
42 | 286.000-2-83.6
43 | 286.003-3-42
44 | 299.000-1-57.2
45 | 299.000-1-57.3
46 | 299.000-1-58.3
47 | 310.000-2-6.1
48 | 284.000-1-23
49 | 298.000-1-58
50 | 284.000-1-25.2
51 | 299.000-1-58.2
53 | 298.000-1-57
54 | 284.000-1-22
55 | 284.000-1-24
56 | 284.000-1-20
58 | 298.000-1-3
59 | 297.000-1-5.1
59 | 297.000-1-5.2
60 | 298.000-1-50.2
61 | 298.000-1-14
62 | 298.000-1-50.1
63 | 298.000-1-56.2
64 | 298.000-1-50.7
65 | 298.000-1-69
66 | 298.000-1-41.1
66 | 298.000-1-41.2
67 | 310.000-1-61
68 | 298.000-1-43
69 | 299.001-1-35.1
70 | 299.001-1-35.2
71 | 299.001-1-35.3
72 | 298.000-1-42.2
73 | 298.000-1-42.1
74 | 299.000-1-56.2
86 | 299.000-1-55.2
88 | 299.001-1-36
89 | 298.002-3-15.1
90 | 284.000-1-21
91 | 284.000-1-19
99 | 286.000-2-83.1
101 | 299.000-1-27
102 | 312.000-1-52.1
103 | 297.001-1-8.1
103 | 297.001-1-8.2
104 | 312.000-1-65
105 | 324.013-1-7
106 | 298.000-1-19
107 | 298.000-1-18
108 | 299.001-1-37
109 | 298.000-1-39
110 | 311.000-1-18
112 | 323.012-2-9
113 | 322.000-1-30
114 | 299.000-1-2
115 | 299.000-1-23.1
116 | 299.000-1-13
117 | 311.000-2-6.1
118 | 311.000-1-32
118 | 311.000-2-10.1
118 | 311.000-2-11
119 | 312.000-1-2
122 | 297.000-1-15
123 | 324.000-1-71
124 | 299.000-1-57.1
137 | 332.000-1-19.2
137 | 332.000-1-20.1
137 | 332.000-1-27
143 | 310.000-1-16
144 | 298.002-3-15.3
144 | 298.002-3-16
144 | 298.002-3-17
147 | 297.000-1-37.1
148 | 311.000-2-24.1
148 | 311.000-2-24.12
148 | 311.000-2-24.6
148 | 311.000-2-24.7
149 | 310.000-1-7
154 | 311.000-2-26
156 | 298.000-1-56.1
157 | 298.000-1-50.3
158 | 312.000-1-62.2
164 | 299.000-1-26
165 | 310.000-2-13
170 | 324.000-1-70
172 | 361.000-1-1.2
172 | 361.000-1-8
175 | 324.013-1-18
176 | 297.000-1-16
176 | 297.000-1-17
176 | 297.000-1-23
177 | 310.000-1-22
177 | 310.000-1-23
177 | 310.000-1-24
179 | 310.000-2-8
180 | 298.002-3-22
181 | 310.000-2-4
182 | 310.000-2-3.2
183 | 323.008-1-1.1
183 | 323.012-1-39
184 | 323.000-1-34.3
184 | 323.000-1-34.5
186 | 298.000-1-50.11
186 | 298.000-1-51
187 | 310.000-1-6
188 | 310.000-2-5
189 | 299.000-1-31.2
190 | 299.000-1-25
190 | 299.000-1-31.1
192 | 310.000-2-3.1
193 | 298.002-3-4.3
194 | 285.000-1-31
197 | 310.000-2-2
199 | 284.000-1-26
201 | 312.000-1-1
202 | 310.000-2-7
203 | 298.002-2-1
203 | 298.002-2-2
220 | 270.000-1-23
221 | 270.000-1-33.3
222 | 270.000-1-35.5
223 | 285.000-1-9
224 | 285.000-1-10
225 | 285.000-1-11
228 | 271.000-3-55.1
230 | 297.000-1-37.2
233 | 299.000-1-50
234 | 310.000-3-48.1
238 | 299.000-1-53
240 | 324.000-1-7.1
240 | 324.000-1-7.2
242 | 310.000-1-8
244 | 312.000-1-62.1
244 | 312.000-1-63.1
247 | 298.000-1-17
248 | 298.002-3-23
252 | 298.000-1-20
253 | 298.000-1-15
254 | 299.000-1-52
257 | 299.001-1-48.2
259 | 297.000-1-2
259 | 297.001-1-5.2
260 | 299.000-1-45
261 | 310.000-2-16
262 | 310.000-2-26.2
263 | 310.000-2-26.1
263 | 310.000-2-28
264 | 271.000-3-58
266 | 299.000-1-46
267 | 310.000-2-15.1
268 | 285.000-1-21
268 | 285.000-1-22
268 | 298.000-1-12
268 | 298.000-1-13.1
268 | 298.000-1-13.2
269 | 310.000-2-18
270 | 310.000-2-27
271 | 299.000-1-5
272 | 311.000-1-14.2
273 | 310.000-2-24
273 | 310.000-3-52
274 | 310.000-3-53.3
275 | 311.000-2-25.2
276 | 311.000-2-24.14
277 | 310.000-2-17
278 | 311.000-2-21.2
278 | 311.000-2-21.8
279 | 299.000-1-22.1
280 | 310.000-2-14
284 | 299.000-1-49
285 | 310.000-3-53.3
286 | 285.000-1-24
287 | 310.000-2-15.2
292 | 298.000-1-59.1
293 | 297.000-1-27.1
294 | 297.000-1-27.3
294 | 297.000-1-27.4
295 | 299.000-1-21
296 | 298.000-1-34.1
298 | 311.000-1-13
300 | 297.000-1-12.1
301 | 298.000-1-16
302 | 299.001-1-48.1
303 | 298.000-1-34.2
306 | 300.000-3-7.3
312 | 311.000-1-13
316 | 324.000-1-75.2
316 | 324.000-1-75.4
320 | 310.000-2-12
321 | 284.000-1-32
323 | 298.000-1-33
328 | 323.000-1-40
328 | 323.000-1-45
331 | 286.003-3-44
331 | 286.003-3-47
332 | 284.000-1-17

Madison County, NY
Oneida Nation Parcel No. | Madison County Tax Lot No.
2 | 54.-1-30
3 | 55.-1-3
4 | 47.-1-50.1
5 | 47.-1-50
6 | 47.-1-46
7 | 54.-1-14.2
14 | 47.-1-50.2
15 | 47.-1-51
18 | 47.-1-42
21 | 47.-1-43
126 | 54.-1-21.11
127 | 54.-1-32.2
128 | 54.-1-33
128 | 55.-1-38
128 | 55.-1-4.2
128 | 55.-1-7
129 | 54.-3-11
129 | 54.-3-4
130 | 54.-3-8
131 | 54.-2-2
131 | 63.-1-2.1
132 | 54.-2-5
133 | 55.-2-5.12
134 | 55.-2-9
135 | 55.-2-21.12
151 | 54.-2-6.1
152 | 54.-2-3.12
152 | 54.-2-3.13
152 | 54.-2-3.62
152 | 54.-2-6.22
153 | 54.-2-8.12
155 | 63.-1-2.2
166 | 46.-1-4.1
166 | 46.-1-5.11
167 | 55.-2-21.11
167 | 55.-2-22
168 | 64.-1-17
168 | 64.-1-18
168 | 64.-1-2
168 | 64.-1-24.1
168 | 64.-1-24.31
168 | 64.-1-3.1
168 | 64.-1-3.2
168 | 64.-1-35
168 | 64.-1-6
171 | 74.1-1-17
171 | 74.-1-16.1
171 | 74.-1-18
171 | 74.-1-19
171 | 74.-1-9
173 | 83.-1-18
178 | 54.-1-31
196 | 63.-1-3
207 | 54.-1-29.1
208 | 54.-1-32.1
209 | 55.-1-4.1
210 | 55.-2-5.11
211 | 55.-2-7
212 | 55.-2-8.1
213 | 64.-1-1
214 | 64.-1-13.1
227 | 54.-1-29
282 | 65.-1-10
283 | 74.-1-16.5
291 | 46.-1-62.2
304 | 54.-3-5.11
304 | 63.-2-2
315 | 64.-1-15.2
322 | 47.-1-61

Dated: May 20, 2008.
James E. Cason,
Associate Deputy Secretary.
P. Lynn Scarlett,
Deputy Secretary.

[FR Doc. E8-11636 Filed 5-22-08; 8:45 am]

BILLING CODE 4310-4N-P